DEPARTMENT OF DEFENSE

Department of the Army; Corps of Engineers

Intent To Prepare a Draft Environmental Impact Statement To Evaluate Improvements to the Federal Deep-Draft Pascagoula Harbor Navigation Channel in Jackson County, MS

AGENCY: Department of the Army, U.S. Army Corps of Engineers, DOD.

ACTION: Notice of intent.

SUMMARY: The Mobile District, U.S. Army Corps of Engineers (Corps) intends to prepare a Draft Environmental Impact Statement (DEIS) to address the potential impacts associated with improving the Federal Pascagoula Harbor Navigation Channel Project in Jackson County, MS. The DEIS will be used as a basis for ensuring compliance with the National Environmental Policy Act (NEPA) and evaluating alternative plans including the “No Action”. Alternatives which will be evaluated include widening the Lower Pascagoula Channel and Bayou Casotte Channel by 50-foot increments to a total width of 150 feet on one side or both sides of the channel.

DATES: A public scoping meeting will be held on Thursday, February 25, 2010 from 5:30 p.m. to 7:30 p.m.

ADDRESSES: The scoping meeting will be held at the Pascagoula Public Library, 3214 Pascagoula Street, Pascagoula, MS 39567.

FOR FURTHER INFORMATION CONTACT: Questions about the DEIS should be addressed to Ms. Jennifer Jacobson, Coastal Environment Team, Mobile District, U.S. Army Corps of Engineers, P.O. Box 2288, Mobile, AL 36628 by telephone (251) 690-2724 or e-mail her at jennifer.l.jacobson@usace.army.mil.

SUPPLEMENTARY INFORMATION: 1. The March 1985 Pascagoula Harbor, MS Feasibility Report investigated increased widths and depths in the Pascagoula and Bayou Casotte navigation channels. Of the plans initially formulated, five were selected for detailed study along with the “No Action” alternative. All plans considered for detailed study included deepening all the channels in Mississippi Sound to 42 feet and the Entrance channel to 44 feet; widening of the Entrance channel to 550 feet; widening of the Bayou Casotte channel to 350 feet; and providing a 1,400-foot diameter turning basin just inside the mouth of Bayou Casotte. The 1985 Feasibility Report recommended deepening and widening the Gulf Entrance channel to 44 feet by 550 feet from the 44-foot depth contour in the Gulf of Mexico to the bend at the southern end of Horn Island Pass, deepening and widening Horn Island Pass to 44 feet by 600 feet between the bends at the southern and northern ends of that pass, for a distance of about 4 and ½; miles; reconfiguring the impoundment basin in Horn Island Pass to provide a section within the channel limits 1,500 feet long with a total depth of 56 feet to facilitate maintenance by hopper dredge, and allowing for future realignment of the Horn Island Pass reach as natural conditions warrant. In addition, deepening the Lower Pascagoula channel to 42 feet from the bend at the north end of Horn Island Pass, through Mississippi Sound and into the Pascagoula River, and terminating about 500 feet south of the grain elevator for a total distance of about 10 miles; widening the bend at the junction with the Bayou Casotte channel from the present 150 feet to 250 feet to provide a total width at the bend of 600 feet and widening the bend at the mouth of Pascagoula River by 280 feet to provide a total width at the bend of 630 feet. Finally, widening and deepening the Bayou Casotte channel to 42 feet by 350 feet from the junction with the main channel to the mouth of Bayou Casotte, a distance of about 3 and ½ miles; with additional widening at the mouth to provide a turning basin with a total turning diameter of 1,150 feet, including the channel width; relieving the northern portion of the area between the junction with the main ship channel from the present 500 feet to 1,000 feet, and widening the bend at the mouth of Bayou Casotte from the present 50 feet to 100 feet to provide a total width at the bend of 450 feet. A Final Environmental Impact Statement (EIS) for the Designation of an Ocean Dredged Material Disposal Site (ODMDS) located offshore Pascagoula, MS was prepared in July 1991. Construction of all phases of the improvements, except for the Entrance channel being widened to 550 feet, reconfiguring the Horn Island Pass impoundment basin, and the Pascagoula Upper channel being deepened to 42 feet, were completed in 1999. A Final Supplemental EIS entitled Pascagoula Harbor Navigation Channel is scheduled to be released for public comment this year. This Final Supplemental EIS addresses construction of all those unconstructed navigational features. The project is conducted under the authority of Public Law 84-99, Flood and Coastal Storm Emergencies (33 U.S.C.701n) (69 Stat. 186). Appropriations for construction of the project was received by Public Law 109-359, making Appropriations for the Department of Defense for the Fiscal Year Ending September 30, 2006, and for Other Purposes (December 18, 2005). The original Final EIS was reviewed and any new conditions that were not addressed in the 1989 Final EIS were evaluated as part of the Final Supplemental EIS to ensure compliance with all environmental laws and regulations.

2. Alternative scenarios to be considered in the DEIS include the “No action” alternative and an array of 50-foot wide increment alternatives to widen the Federal Lower Pascagoula Channel and Bayou Casotte Channel up to a total width of 150 feet on either one side or both sides of the Channel(s). In addition, an array of disposal options are also being evaluated for the new work as well as for the maintenance material including upland disposal site(s), littoral zone disposal, beneficial use, disposal in the existing Pascagoula ODMDS, and disposal in existing open-water disposal sites.

3. Scoping: a. The Corps invites full public participation to promote open communication on the issues surrounding the proposal. All Federal, State, and local agencies, and other persons or organizations that have an interest are urged to participate in the NEPA scoping process. Public meetings will be held to help identify significant issues and to receive public input and comment.

b. The DEIS will analyze the potential social, economic, and environmental impacts to the local area resulting from improvements to the Federal Pascagoula Harbor Navigation Project. Specifically, the following major issues will be analyzed in depth in the DEIS: Hydrologic and hydraulic regimes, threatened and endangered species, essential fish habitat and other marine habitat, air quality, cultural resources, transportation systems, alternatives, secondary and cumulative impacts, socioeconomic impacts, environmental justice (effect on minorities and low-income groups) (Executive Order 12898), and protection of children (Executive Order 13045).

c. The Corps will serve as the lead Federal agency in the preparation of the DEIS. It is anticipated that the following agencies will be invited and will accept cooperating agency status for the preparation of the DEIS: U.S. Environmental Protection Agency, U.S. Fish and Wildlife Service, National Marine Fisheries Service, Mississippi Department of Environmental Quality, Mississippi Department of Marine Resources, Jackson County Port Authority, Mississippi Secretary of State, National Park Service, Minerals Management Service, Mississippi Museum of Natural Science, and Mississippi Department of Archives and History.

4. A public scoping meeting will be held (see DATES AND ADDRESSES). Actual time(s) and place(s) for subsequent meetings or workshops will be announced by the Corps by issuance of a public notice and/or notices in the local media.

5. It is anticipated that the DEIS will be made available for public review in November 2012.

Curtis M. Flakes,
Chief, Planning and Environmental Division.

[FR Doc. 2010-2392 Filed 2-3-10; 8:45 am]

BILLING CODE 3720-58-P